DEPARTMENT OF JUSTICE

Antitrust Division

Notice Pursuant to the National Cooperative Research and Production Act of 1993 Joint Venture Under Tip Award Number: 7ONANB1OHOO1

Notice is hereby given that, on February 3, 2010, pursuant to Section 6(a) of the National Cooperative Research and Production Act of 1993, 15 U.S.C. 4301 et seq. (“the Act”), the Joint Venture under TIP Award Number: 7ONANB1OHOO1 (“Brewer-Swent”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to section 6(b) of the Act, the identities of the parties to the venture are: Brewer Science, Inc., Rolla, MO; and SouthWest Nano Technologies, Norman, OK. The general area of Brewer-Swent's planned activity is to demonstrate the production of low-cost, high-quality metallic and semiconducting single wall carbon nanotube inks.

Patricia A. Brink,
Deputy Director of Operations, Antitrust Division.

[FR Doc. 2010-8573 Filed 4-15-10; 8:45 am]

BILLING CODE 4410-11-M